DEPARTMENT OF HEALTH AND HUMAN SERVICES

Office of the Secretary

[Document Identifier: HHS-OS-0990-0407-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for revision of the approved information collection assigned OMB control number 0990-0407 scheduled to expire on April 30, 2016. Comments submitted during the first public review of this ICR will be provided to OMB. OMB will accept further comments from the public on this ICR during the review and approval period.

DATES: Comments on the ICR must be received on or before December 18, 2015.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the OMB control number 0990-0407 and document identifier HHS-OS-0990-0407-30D for reference.

Information Collection Request Title: Think Cultural Health (TCH) Web site Quality Improvement Effort—OMB No. 0990-0407 REVISION—HHS/OS/OMH

Abstract: The Office of Minority Health (OMH), Office of the Secretary (OS), Department of Health and Human Services (HHS) is requesting approval by OMB on a revised data collection. The Think Cultural Health (TCH) Web site is an initiative of the HHS OMH's Center for Linguistic and Cultural Competence in Health Care (CLCCHC), and is a repository of the latest resources and tools to promote cultural and linguistic competency in health and health care. The TCH Web site is unlike other government Web sites in that its suite of e-learning programs affords health and health care professionals the ability to earn continuing education credits through training in cultural and linguistic competency. The revision to this information collection request includes the online Web site registration form, course/unit evaluations specific to the resource or e-learning program course/unit completed, follow up surveys, focus groups, and key informant interviews.

Need and Proposed Use of the Information: The data will be used to ensure that the offerings on the TCH Web site are relevant, useful, and appropriate to their target audiences. The findings from the data collection will be of interest to HHS OMH in supporting maintenance and revisions of the offerings on the TCH Web site.

Total Estimated Annualized Burden—Hours
Form name | Type of respondent | Number of respondent | Number responses per respondent | Average burden per response (hours) | Total burden (hours)
Registration Form | Health and Health Care Professionals | 9,460 | 1.00 | 3/60 | 473
Course/unit Evaluation Form | Health and Health Care Professionals | 9,460 | 1.00 | 5/60 | 788
Follow-Up Survey | Health and Health Care Professionals | 4,208 | 1.00 | 10/60 | 701
Follow-Up Survey | Community Health Workers | 6 | 2.00 | 10/60 | 2
Focus Groups | Health and Health Care Professionals | 15 | 1.00 | 120/60 | 29
Key Informant Interviews | Health and Health Care Professionals | 13 | 1.00 | 60/60 | 13
Key Informant Interviews | Community Health Workers | 25 | 1.00 | 60/60 | 25
Total |  | 23,187 |  |  | 2,031

Darius Taylor,
Information Collection Clearance Officer.

[FR Doc. 2015-29458 Filed 11-17-15; 8:45 am]

BILLING CODE 4150-29-P